DEPARTMENT OF ENERGY

Federal Energy Regulatory Commission

Notice of Request to Use Alternative Procedures in Preparing a License Application

January 30, 2003.

Take notice that the following request to use alternative procedures to prepare a license application has been filed with the Commission. a. Type of Application: Request to use alternative procedures to prepare a new license application. b. Project No.: 659. c. Date filed: January 22, 2003. d. Applicant: Crisp County Power Commission. e. Name of Project: Lake Blackshear. f. Location: On the Flint River, in Worth, Lee, Sumter, Dooly, and Crisp Counties, Georgia. The project does not occupy federal lands. g. Filed Pursuant to: Federal Power Act, 16 U.S.C. 791(a)—825(r). h. Applicant Contact: Steve Rentfrow, General Manager, Crisp County Power Commission, P.O. Box 1218, Cordele, GA 31010; phone (229) 273-3811; e-mail srentfrow@crispcountypower.com. i. FERC Contact: Janet Hutzel at (202) 502-8675; e-mail janet.hutzel@ferc.gov. j. Deadline for Comments: 30 days from the date of this notice.

All documents (original and eight copies) should be filed with: Magalie R. Salas, Secretary, Federal Energy Regulatory Commission, 888 First Street, NE., Washington, DC 20426.

Comments may be filed electronically via the Internet in lieu of paper. The Commission strongly encourages electronic filings. See 18 CFR 385.2001(a)(1)(iii) and the instructions on the Commission's Web site (http://www.ferc.gov) under the “e-Filing” link. k. The existing 15.2 MW project consists of: (1) A 415-foot-long, 49-foot-high gated spillway; (2) a 630-foot-long auxiliary spillway; (3) a 3,410-foot-long north embankment; (4) a 680-foot-long south embankment; (5) a 8,700-acre impoundment at a full pool elevation of 237 feet mean sea level; (6) a powerhouse containing four turbines; (7) a 1,400-foot-long, 46-kV transmission line; and (8) appurtenant facilities. No new facilities are proposed. l. A copy of the request to use alternative procedures is available for review at the Commission in the Public Reference Room or may be viewed on the Commission's Web site at http://www.ferc.gov using the “FERRIS” link. Enter the docket number excluding the last three digits in the docket number field to access the document. For assistance, contact FERC Online Support at FERCOnlineSupport@ferc.gov or toll-free at 1-866-208-3676, or for TTY, (202) 502-8659. A copy is also available for inspection and reproduction at the address in item h above. m. Crisp County Power Commission (CCPC) has demonstrated that it has made an effort to contact all Federal and State resources agencies, non-governmental organizations (NGO), and others affected by the project. CCPC has also demonstrated that a consensus exists that the use of alternative procedures is appropriate in this case. CCPC has submitted a communications protocol that is supported by the stakeholders.

The purpose of this notice is to invite any additional comments on CCPC's request to use the alternative procedures, pursuant to section 4.34(i) of the Commission's regulations. Additional notices seeking comments on the specific project proposal, interventions and protests, and recommended terms and conditions will be issued at a later date. CCPC will complete and file a preliminary Environmental Assessment, in lieu of Exhibit E of the license application. This differs from the traditional process, in which an applicant consults with agencies, Indian tribes, NGOs, and other parties during preparation of the license application and before filing the application, but the Commission staff performs the environmental review after the application is filed. The alternative procedures are intended to simplify and expedite the licensing process by combining the pre-filing consultation and environmental review processes into a single process, to facilitate greater participation, and to improve communication and cooperation among the participants.

Magalie R. Salas,
Secretary.

[FR Doc. 03-2884 Filed 2-5-03; 8:45 am]

BILLING CODE 6717-01-P